FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 6, 2023.

A. Federal Reserve Bank of Cleveland (Bryan S. Huddleston, Vice President) 1455 East Sixth Street, Cleveland, Ohio 44101-2566. Comments can also be sent electronically to Comments.applications@clev.frb.org:

1. Mary A. Burns, individually, and as trustee of the FFD Financial Corporation Stock Ownership Plan, both of Dover, Ohio; and Wayne A. Burns, New Philadelphia, Ohio, and Von E. Gundy, Sherrodsville, Ohio; to retain voting shares of FFD Financial Corporation, Dover, Ohio, and thereby indirectly retain voting shares of First Federal Community Bank, NA, both of Dover, Ohio.

B. Federal Reserve Bank of Chicago (Colette A. Fried, Assistant Vice President) 230 South LaSalle Street, Chicago, IL 60604.

1. Kari L. Schmidt Field, as trustee of the Kari L. Schmidt 2021 Irrevocable Grantor Trust, the Kari L. Schmidt Trust, all of Mauston, Wisconsin, and as co-trustee of the Kari Schmidt QTIP Marital Trust, Madison, Wisconsin; Molly K. Scully, Lyndon Station, Wisconsin, individually, and as co-trustee of the Molly K. Scully Qualified Subchapter S Trust, Madison, Wisconsin; Justin K. Walsh, New Lisbon, Wisconsin, individually, and as co-trustee of the Justin K. Walsh Qualified Subchapter S Trust, Madison, Wisconsin; Matthew P. Walsh, Woodbury, Minnesota, individually, and as co-trustee of the Matthew P. Walsh Qualified Subchapter S Trust, the Wealth Enhancement Trust Services, LLC, the Kari Schmidt QTIP Marital Trust, the Molly K. Scully Qualified Subchapter S Trust, the Justin K. Walsh Qualified Subchapter S Trust, and the Matthew P. Walsh Qualified Subchapter S Trust, all of Madison, Wisconsin; to join the Kari L. Schmidt Field Family Control Group, a group acting in concert, to retain voting shares of Mauston Bancorp, Inc., and thereby indirectly retain voting shares of Bank of Mauston, both of Mauston, Wisconsin.

Board of Governors of the Federal Reserve System.
Michele Taylor Fennell,
Deputy Associate Secretary of the Board.

[FR Doc. 2023-03558 Filed 2-17-23; 8:45 am]

BILLING CODE P